NUCLEAR REGULATORY COMMISSION

Advisory Committee on Reactor Safeguards (ACRS); Meeting of the ACRS Subcommittee on Plant License Renewal; Cancellation of the May 22, 2013, ACRS Subcommittee Meeting

The ACRS Plant License Renewal Subcommittee meeting scheduled for May 22, 2013 has been cancelled.

The notice of this meeting was previously published in the Federal Register on Friday, May 10, 2013, (78 FR 27442).

Information regarding this meeting can be obtained by contacting Kent Howard, Designated Federal Official (DFO) (Telephone 301-415-2989 or Email: Kent.Howard@nrc.gov) between 7:30 a.m. and 5:15 p.m. (EST)).

Dated: May 15, 2013.
Cayetano Santos,
Chief, Technical Support Branch, Advisory Committee on Reactor Safeguards.

[FR Doc. 2013-12072 Filed 5-20-13; 8:45 am]

BILLING CODE 7590-01-P